DEPARTMENT OF HOUSING AND URBAN DEVELOPMENT

[Docket No. FR-5603-N-78]

Notice of Submission of Proposed Information Collection to OMB: Section 8 Contract Renewal Policy—Guidance for the Renewal of Project-Based Section 8 Contracts

AGENCY: Office of the Chief Information Officer, HUD.

ACTION: Notice.

SUMMARY: The proposed information collection requirement described below has been submitted to the Office of Management and Budget (OMB) for review, as required by the Paperwork Reduction Act. The Department is soliciting public comments on the subject proposal.

The Section 8 Renewal Policy Guide implements Section 524 of the Multifamily Housing Reform and Affordability Act of 1997 (MAHRA) (Pub. L. 105-65, enacted on October 27, 1997), which governs how expiring Section 8 project-based assistance contracts are renewed. The Section 8 contract renewal process is an essential component to preserving low income rental housing affordability and availability, while reducing long-term costs of project-based assistance. Project-based assistance contracts are renewed under MAHRA to protect tenants and preserve affordable housing for low and very low-income tenants. The Section 8 contract renewal process will provide housing protection for the low and very low-income tenants living in various United States communities. The Section 8 Renewal Policy Guide sets forth six renewal options from which a project owner may choose when renewing their expiring Section 8 contract: Option One—Mark-Up-To-Market; Option Two—Other Contract Renewal with Current Rents at or Below Comparable Market Rents; Option Three—Referral to the Office of Affordable Preservation (OAHP); Option Four—Renewal of Projects Exempted From OAHP; Option Five—Renewal of Portfolio Reengineering Demonstration or Preservation Projects; Option Six—Opt Outs. Owners should select one of six options which are applicable to their project and should submit contract renewal on an annual basis to renew Contract.

DATES: Comments Due Date: November 26, 2012.

ADDRESSES: Interested persons are invited to submit comments regarding this proposal. Comments should refer to the proposal by name and/or OMB approval Number (2502-0587) and should be sent to: HUD Desk Officer, Office of Management and Budget, New Executive Office Building, Washington, DC 20503; fax: 202-395-5806. Email: OIRA_Submission@omb.eop.gov fax: 202-395-5806.

FOR FURTHER INFORMATION CONTACT: Colette Pollard, Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the Following Information:

Title of Proposed: Section 8 Contract Renewal Policy—Guidance for the Renewal of Project-Based Section 8 Contracts.

OMB Approval Number: 2502-0587.

Form Numbers: HUD-9649, HUD-9626, HUD-9648D, HUD-9628, HUD-9628-C, HUD-9630, HUD-9632, HUD-9633, HUD-9634, HUD-9645, HUD-9646, HUD-9625, HUD-9627, HUD-9636, HUD-9637, HUD-9643, HUD-9641, HUD-9648C, HUD-9648-B, HUD-9647, HUD-9648-A, HUD-9640, HUD-9639, HUD-9635, HUD-9638, HUD-9624, HUD-9624A, HUD-9631, HUD-9642, HUD-9628-A, HUD-9628B, HUD-9644, HUD-9625, HUD-9628-D, HUD-9629, HUD-9651.

Description of the need for the information and proposed use: The Section 8 Renewal Policy Guide implements Section 524 of the Multifamily Housing Reform and Affordability Act of 1997 (MAHRA) (public law 105-65, enacted on October 27, 1997), which governs how expiring Section 8 project-based assistance contracts are renewed. The Section 8 contract renewal process is an essential component to preserving low income rental housing affordability and availability, while reducing long-term costs of project-based assistance. Project-based assistance contracts are renewed under MAHRA to protect tenants and preserve affordable housing for low and very low-income tenants. The Section 8 contract renewal process will provide housing protection for the low and very low-income tenants living in various United States communities. The Section 8 Renewal Policy Guide sets forth six renewal options from which a project owner may choose when renewing their expiring Section 8 contract: Option One—Mark-Up-To-Market; Option Two—Other Contract Renewal with Current Rents at or Below Comparable Market Rents; Option Three—Referral to the Office of Affordable Preservation (OAHP); Option Four—Renewal of Projects Exempted From OAHP; Option Five—Renewal of Portfolio Reengineering Demonstration or Preservation Projects; Option Six—Opt Outs. Owners should select one of six options which are applicable to their project and should submit contract renewal on an annual basis to renew Contract.

| Number of respondents | Annual responses | × | Hours per response | Burden hours
Reporting Burden | 25,324 | 1 |  | 0.971 | 24,603

Total estimated burden hours: 24,603.

Status: Extension without change of a currently approved collection.

Authority: Section 3507 of the Paperwork Reduction Act of 1995, 44 U.S.C. 35, as amended.

Dated: October 23, 2012.
Colette Pollard,
Department Reports Management Officer, Office of the Chief Information Officer.

[FR Doc. 2012-26391 Filed 10-25-12; 8:45 am]

BILLING CODE 4210-67-P